DEPARTMENT OF TRANSPORTATION

Federal Aviation Administration

14 CFR Part 39

[Docket No. FAA-2015-3073; Directorate Identifier 2015-CE-017-AD]

RIN 2120-AA64

Airworthiness Directives; Viking Air Limited Airplanes

AGENCY: Federal Aviation Administration (FAA), DOT.

ACTION: Proposed rule; correction.

SUMMARY: The FAA is correcting a notice of proposed rulemaking (NPRM) that published in the Federal Register. That NPRM applies to Viking Air Limited Model DHC-3 airplanes. The repetitive inspection column in “Table 1 of Paragraph (f)(3) of This AD—Inspection Schedule” contains data that is intended to apply to all conditions. However, the way the table is displayed makes it look as if it only applies to the first condition. This document corrects it to assure that it applies to all conditions. In all other respects, the original document remains the same.

DATES: The last date for submitting comments to the NPRM (80 FR 44892, July 28, 2015) remains September 11, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Viking Air Limited Technical Support, 1959 De Havilland Way, Sidney, British Columbia, Canada, V8L 5V5; Fax: 250-656-0673; telephone: (North America) 1-800-663-8444; email: technical.support@vikingair.com; Internet: http://www.vikingair.com/support/service-bulletins. It is also available on the Internet at http://www.regulations.gov by searching for and locating Docket No. FAA-2015-3073.You may view this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2015-3073; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Aziz Ahmed, Aerospace Safety Engineer, FAA, New York Aircraft Certification Office (ACO), 1600 Steward Avenue, Suite 410, Westbury, New York 11590; telephone: (516) 228-7329; fax: (516) 794-5531; email: aziz.ahmed@faa.gov.

SUPPLEMENTARY INFORMATION: On July 28, 2015, a notice of proposed rulemaking (NPRM) (80 FR 44892) was published in the Federal Register to apply to Viking Air Limited Model DHC-3 airplanes. That NPRM proposed to require installing additional wing inspection access panels and inspecting the wings using borescope and visual methods with corrective action as necessary.

As published, the repetitive inspection column in “Table 1 of Paragraph (f)(3) of This AD—Inspection Schedule” contains data that when displayed makes it look as if the repetitive inspections only apply to the first condition, whereas when printed shows that it applies to all conditions. To correct this, we are including the data in each condition.

Although no other part of the preamble or regulatory information has been corrected, we are publishing the entire NPRM (80 FR 44892, July 28, 2015) in the Federal Register.

The last date for submitting comments to the NPRM (80 FR 44892, July 28, 2015) remains September 11, 2015.

PART 39—AIRWORTHINESS DIRECTIVES

1. The authority citation for part 39 continues to read as follows:

Authority: 49 U.S.C. 106(g), 40113, 44701.

§ 39.13 [Amended]

2. The FAA amends § 39.13 by adding the following new AD:

Viking Air Limited: Docket No. FAA-2015-3073; Directorate Identifier 2015-CE-017-AD.

(a) Comments Due Date

We must receive comments by September 11, 2015. The date as originally published in the NPRM (80 FR 44892, July 28, 2015).

(b) Affected ADs

None.

(c) Applicability

This AD applies to Viking Air Limited DHC-3 airplanes, all serial numbers, certificated in any category.

(d) Subject

Air Transport Association of America (ATA) Code 57: Wings.

(e) Reason

This AD was prompted by mandatory continuing airworthiness information (MCAI) originated by an aviation authority of another country to identify and correct an unsafe condition on an aviation product. The MCAI describes the unsafe condition as reports of corrugation cracking found at various wing stations and on the main spar lower cap. We are issuing this proposed AD to detect cracking and correct as necessary to address the unsafe condition on these products.

(f) Actions and Compliance

Unless already done, do the following actions in paragraphs (f)(1) through (f)(5) of this AD:

(1) Within 30 days after the effective date of this AD, determine the accumulated air time for each wing by contacting Technical Support at Viking Air Limited. You can find contact information for Viking Air Limited in paragraph (h) of this AD.

(2) Within 30 days after the effective date of this AD, determine all installed supplemental type certificates (STC) or modifications affecting the wings. Based on the accumulated air time determined from paragraph (f)(1) of this AD and before the initial inspection required in paragraph (f)(3) of this AD, install access panels as follows:

(i) If the airplane is free of STCs or any other modifications affecting the wings, install additional inspection access panels following the Accomplishment Instructions Part A of Viking DHC-3 Otter Service Bulletin No. V3/0002, Revision “C”, dated April 30, 2014.

(ii) If the airplane is fitted with STC SA2009NY (which can be found on the Internet at: http://rgl.faa.gov/Regulatory_and_Guidance_Library/rgstc.nsf/0/F7309B7D9B008C588625734F00730144?OpenDocument&Highlight=sa02009ny), incorporate additional inspection access panels following the Accomplishment Instructions of Viking Air Limited SB 3-STC (03-50)-001, Revision “NC”, dated April 30, 2014.

Note 1 to paragraph (f)(2)(ii) of this AD: STC SA03-50 would be the Canadian equivalent of the United States STC 2A2009NY.

(iii) If there are other STCs or modifications affecting the wings the operator must contact the FAA to request an FAA-approved alternative method of compliance using the procedures in paragraph (g)(1) of this AD and 14 CFR 39.19. To develop these procedures, we recommend you contact the STC holder for guidance in developing substantiating data.

(3) Based on the accumulated air time on the wings determined in paragraph (f)(1) of this AD, perform initial and repetitive borescope and visual inspections of both the left-hand and right-hand wing box following Part B of the Accomplishment Instructions of Viking DHC-3 Otter Service Bulletin V3/0002, Revision “C”, dated April 30, 2014, using the inspection schedules specified in Table 1 of paragraph (f)(3) of this AD:

Table 1 of Paragraph (f)(3) of This AD—Inspection Schedule
Effectivity | Initial inspection | Repetitive inspection
If Viking Air Limited SB V3/0002, Revision “A”, dated February 22, 2013; or Viking Air Limited SB V3/0002, Revision “B”, dated July 3, 2013; were complied with prior to the effective date of this AD | The initial inspection is not required since the inspection was accomplished while complying with Revision “A” or “B” of Viking Air Limited SB V3/0002 | Repetitively inspect not to exceed every 1,600 wing air time hours accumulated after the last inspection or 2,100 flight cycles after the last inspection, whichever occurs first.
If, as of the effective date of this AD, the airplane has less than 31,200 wing air time hours | Inspect within 800 wing air time hours after the effective date of this AD, or within 6 months after the effective date of this AD, whichever occurs first | Repetitively inspect not to exceed every 1,600 wing air time hours accumulated after the last inspection or 2,100 flight cycles after the last inspection, whichever occurs first.
If, as of the effective date of this AD, the airplane has 31,200 hours wing air time or more but less than 31,600 hours wing air time hours | Inspect upon or before accumulating 32,000 wing air time hours or within 6 months after the effective date of this AD, whichever occurs first | Repetitively inspect not to exceed every 1,600 wing air time hours accumulated after the last inspection or 2,100 flight cycles after the last inspection, whichever occurs first.
If, as of the effective date of this AD, the airplane has 31,600 wing air time hours or more | Inspect within 400 wing air time hours accumulated after the effective date of this AD or 3 months after the effective date of this AD, whichever occurs first | Repetitively inspect not to exceed every 1,600 wing air time hours accumulated after the last inspection or 2,100 flight cycles after the last inspection, whichever occurs first.

(4) If the total flight cycles have not been kept, multiply the total number of airplane hours time-in-service (TIS) by 2 to calculate the cycles. For the purpose of this AD, some examples are below:

(i) .5 hour TIS × 2 = 1 cycle; and

(ii) 200 hours TIS × 2 = 400 cycles.

(5) If any cracks are found, contact Technical Support at Viking Air Limited for an FAA-approved repair and incorporate the repair before further flight. You can find contact information for Viking Air Limited in paragraph (i) of this AD. The FAA-approved repair must specifically reference this AD.

(g) Other FAA AD Provisions

The following provisions also apply to this AD:

(1) Alternative Methods of Compliance (AMOCs): The Manager, Standards Office, FAA, has the authority to approve AMOCs for this AD, if requested using the procedures found in 14 CFR 39.19. Send information to ATTN: Aziz Ahmed, Aerospace Safety Engineer, FAA, New York Aircraft Certification Office (ACO), 1600 Steward Avenue, Suite 410, Westbury, New York 11590; telephone: (516) 228-7329; fax: (516) 794-5531; email: aziz.ahmed@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI Transport Canada AD No. CF-2015-05, dated March 18, 2015. You may examine the MCAI on the Internet at http://www.regulations.gov by searching for and locating Docket No. FAA-2015-3073. For service information related to this AD, contact Viking Air Limited Technical Support, 1959 De Havilland Way, Sidney, British Columbia, Canada, V8L 5V5; Fax: 250-656-0673; telephone: (North America) 1-800-663-8444; email: technical.support@vikingair.com; Internet: http://www.vikingair.com/support/service-bulletins. You may review this referenced service information at the FAA, Small Airplane Directorate, 901 Locust, Kansas City, Missouri 64106. For information on the availability of this material at the FAA, call (816) 329-4148.

Issued in Kansas City, Missouri, on August 28, 2015.
Earl Lawrence,
Manager, Small Airplane Directorate, Aircraft Certification Service.

[FR Doc. 2015-21934 Filed 9-3-15; 8:45 am]

BILLING CODE 4910-13-P